DEPARTMENT OF HEALTH AND HUMAN SERVICES

Office of Inspector General

[Docket ID OIG 910-N]

Privacy Act; System of Records

AGENCY: Office of Inspector General, HHS.

ACTION: Notice of amendment to system of existing records.

SUMMARY: In accordance with the Privacy Act of 1974, as amended, the Office of Inspector General gives notice of a proposed amendment to its Privacy Act system of records entitled “Consolidated Data Repository” (09-90-1000). This system of records is being amended to include records regarding Federal and State benefit programs and service providers in Federal health care programs.

DATES: Effective Date: This system of records will become effective without further notice on February 27, 2012, unless comments received on or before that date result in a contrary determination.

Comment Date: Comments on this amendment to the system of records will be considered if we receive them at the addresses provided below no later than 5 p.m. on January 30, 2012.

ADDRESSES: You may submit your written comments, identified by OIG-910-N, by any of the following methods:

• Federal Rulemaking Portal: http://www.regulations.gov. Follow the online instructions for submitting comments.

• Mail or Delivery: Office of Inspector General, Department of Health and Human Services, Attention: OIG-910-N, Room 5541, Cohen Building, 330 Independence Avenue SW., Washington, DC 20201.

Instructions: We do not accept comments by facsimile (FAX) transmission. All submissions received must include the agency name and docket number for this Federal Register document. The general policy for comment submissions from members of the public is to make these available for public viewing on http://www.regulations.gov after receipt. All comments, including attachments and other supporting materials, received are subject to public disclosure.

FOR FURTHER INFORMATION CONTACT: Patrice Drew, OIG Regulatory Officer, External Affairs, (202) 619-1368.

SUPPLEMENTARY INFORMATION: In accordance with the Privacy Act of 1974 (5 U.S.C 552a), an agency is to publish a notice in the Federal Register when there is a revision, change, or addition to its system of records. OIG is proposing to amend its system of records entitled “Consolidated Data Repository” (SORN 09-90-1000). OIG is adding record sources to the system. This system fulfills our responsibilities under the Inspector General Act of 1978 (5 U.S.C. App.) “to conduct and supervise audits and investigations relating to the programs and operations” of the Department of Health and Human Services (HHS). This amendment will assist OIG in performing timely and independent audits, evaluations and inspections, and investigations of the Medicare and Medicaid programs.

SYSTEM NAME:

Consolidated Data Repository-HHS-OIG (SORN 09-90-1000).

RECORD SOURCE CATEGORIES:

Description of the Change: Remove the current entry and in its place add the following: “Sources of information in this records system include: Federal, State, and local government records regarding Medicare, Medicaid, and other benefit programs; Department documents and records; materials regarding service providers in Federal health care programs furnished by nongovernmental sources; and public source materials.”

Dated: December 22, 2011.
Daniel R. Levinson,
Inspector General.

[FR Doc. 2011-33346 Filed 12-28-11; 8:45 am]

BILLING CODE 4152-01-P